COMMODITY FUTURES TRADING COMMISSION

Sunshine Act Meeting

Agency Holding The Meeting: Commodity Futures Trading Commision.

Time And Date: 11 a.m., Friday, August 22, 2003.

Place: 1155 21st St., NW., Washington, DC, 9th Floor Conference Room.

Status: Closed.

Matters To Be Considered: Surveillance Matters.

FOR FURTHER INFORMATION CONTACT: Jean A. Webb, 202-418-5100.

Jean A. Webb,
Secretary of the Commission.

[FR Doc. 03-18455 Filed 7-16-03; 1:03 pm]

BILLING CODE 6351-01-M